FEDERAL COMMUNICATIONS COMMISSION

47 CFR Parts 0, 1, 2, 15, 27, 73, and 74

[GN Docket No. 12-268; Report 3011]

Petitions for Reconsideration of Action in a Rulemaking Proceeding; Correction

AGENCY: Federal Communications Commission.

ACTION: Petition for reconsideration; correction.

SUMMARY: The Federal Communications Commission published a document in the Federal Register of October 27, 2014 (79 FR 63883), regarding Petitions for Reconsideration filed of Action in a rulemaking proceeding. The document contained the incorrect deadline for filing replies to an opposition to the Petition. This document revises the deadline for replies to an opposition to the Petition.

DATES: Oppositions to the Petitions must be filed on or before November 12, 2014. Replies to an opposition must be filed on or before November 24, 2014.

ADDRESSES: Federal Communications Commission, 445 12th Street SW., Washington, DC 20554.

FOR FURTHER INFORMATION CONTACT: A.J. Glusman, Wireless Telecommunications Bureau, (202) 418-1425, email AJ.Glusman@fcc.gov.

Correction

In the Federal Register of October 27, 2014, in FR Doc. 2014-25456, on page 63883, in the second column, correct the DATES section to read:

DATES: Oppositions to the Petitions must be filed on or before November 12, 2014. Replies to an opposition must be filed on or before November 24, 2014.

Federal Communications Commission.
Marlene H. Dortch,
Secretary.

[FR Doc. 2014-26116 Filed 11-3-14; 8:45 am]

BILLING CODE 6712-01-P